DEPARTMENT OF HEALTH AND HUMAN SERVICES

Food and Drug Administration

[Docket No. 00F-0175]

Cultor Food Science, Inc., DSM Food Specialties, and Protein Technologies International; Filing of Food Additive Petition

AGENCY: Food and Drug Administration, HHS.

ACTION: Notice.

SUMMARY: The Food and Drug Administration (FDA) is announcing that Cultor Food Science, Inc., DSM Food Specialties, and Protein Technologies International have filed a petition proposing that the food additive regulations be amended regarding the safe use of natamycin on cheese.

FOR FURTHER INFORMATION CONTACT: Felicia Binion Williams, Center for Food Safety and Applied Nutrition (HFS-206), Food and Drug Administration, 200 C St. SW., Washington, DC 20204, 202-418-3122.

SUPPLEMENTARY INFORMATION: Under the Federal Food, Drug, and Cosmetic Act (sec. 409(b)(5) (21 U.S.C. 348(b)(5))), notice is given that a food additive petition (FAP 0A4704) has been filed by Cultor Food Science, Inc., 430 Saw Mill River Rd., Ardsley, NY 10502; DSM Food Specialties, 700 American Ave., suite 300, King of Prussia, PA 19406; and Protein Technologies International, Checkerboard Square, St. Louis, MO 63164. The petition proposes that the food additive regulations in 21 CFR 172.155 Natamycin (pimaricin) be amended by listing only the use level of natamycin permitted in cheese and by eliminating the reference for the method of application.

The agency has determined under 21 CFR 25.32(k) that this action is of a type that does not individually or cumulatively have a significant effect on the human environment. Therefore, neither an environmental assessment nor an environmental impact statement is required.

Dated: January 4, 2000.
Alan M. Rulis,
Director, Office of Premarket Approval, Center for Food Safety and Applied Nutrition.

[FR Doc. 00-1541 Filed 1-21-00; 8:45 am]

BILLING CODE 4160-01-F